DEPARTMENT OF TRANSPORTATION

Federal Aviation Administration

14 CFR Part 39

[Docket No. FAA-2004-19530; Directorate Identifier 2002-NM-274-AD; Amendment 39-14008; AD 2005-05-19]

RIN 2120-AA64

Airworthiness Directives; Boeing Model 727 Airplanes

Correction

In rule document 05-4826 beginning on page 12120 in the issue of Friday, March 11, 2005, make the following corrections:

§ 39.13 [Corrected]

1. On page 12122 in 39.13(h), in the table, in the fifth column, in the first entry, in the fourth line, “of the upper chord the” should read “of the upper chord of the”.

2. On the same page, in the same section, in the same table, in the same column, in the second entry, in the third line, “chord” should read “chords”.

3. On the same page, in the same section, in the same table, in the same column, in the third entry, in the third line, “of the rear spar from” should read “of the front spar and the lower chord of the rear spar from ”.

4. On the same page, in the same section, in the same table, in the same column, in the fourth entry, in the third line, “rear spar WBL” should read “rear spar from WBL”.

5. On page 12123, in the same section, in the same table, in the same column, the first entry is corrected to read as follows:

An HFEC inspection of the upper chord of the rear spar from WBL 70.5 to the wing tip for cracks, corrosion, minor surface defects, and existing stop-drilled repairs of cracking (initial inspection only), in accordance with paragraph 3.B., Work Instructions, Part 9, of the Accomplishment Instructions of the service bulletin.

[FR Doc. C5-4826 Filed 3-16-05; 8:45 am]

BILLING CODE 1505-01-D